DEPARTMENT OF COMMERCE

International Trade Administration

A-570-890

Wooden Bedroom Furniture From the People's Republic of China; Initiation of New Shipper Reviews

AGENCY: Import Administration, International Trade Administration, Department of Commerce.

EFFECTIVE DATE: September 8, 2005.

SUMMARY: The Department of Commerce (the “Department”) has determined that four requests for a new shipper review of the antidumping duty order on wooden bedroom furniture from the People's Republic of China (“PRC”), received before August 1, 2005,¹ meet the statutory and regulatory requirements for initiation. The period of review (“POR”) of these new shipper reviews is June 24, 2004, through June 30, 2005.

¹ The Order for wooden bedroom furniture was published on January 4, 2005. Therefore, a request for a new shipper review based on the semi-annual anniversary month, July, would be due to the Department by the final day of July 2005. See 19 CFR 351.214(d)(1). However, because the final day of July 2005 fell on a Sunday, the Department has accepted requests filed on the next business day: Monday, August 1, 2005.

FOR FURTHER INFORMATION CONTACT: Eugene Degnan or Robert Bolling at (202) 482-0414 or (202) 482-3434, respectively, AD/CVD Operations, Office 8, Import Administration, International Trade Administration, U.S. Department of Commerce, 14th Street and Constitution Avenue, NW., Washington, DC 20230.

SUPPLEMENTARY INFORMATION:

Background

The notice announcing the antidumping duty order on wooden bedroom furniture from the PRC was published on January 4, 2005. On July 8, 2005, we received a new shipper review request from Shenyang Kunyu Wood Industry Co., Ltd. (“Kunyu”); on July 28, 2005, we received new shipper review requests from Dongguan Landmark Furniture Products Ltd. (“Landmark”) and Meikangchi (Nantong) Furniture Company Ltd. (“Meikangchi”); on August 1, 2005, we received a new shipper review request from WBE Industries (Hui-Yang) Co., Ltd. (“WBE”). All of these companies certified that they are both the producers and exporters of the subject merchandise upon which the respective requests for a new shipper review are based.

Pursuant to section 751(a)(2)(B)(i)(I) of the Tariff Act of 1930 (the “Act”) and 19 CFR 351.214(b)(2)(i), Kunyu, Landmark, Meikangchi, and WBE certified that they did not export wooden bedroom furniture to the United States during the period of investigation (“POI”). In addition, pursuant to section 751(a)(2)(B)(i)(II) of the Act and 19 CFR 351.214(b)(2)(iii)(A), Kunyu, Landmark, Meikangchi, and WBE certified that, since the initiation of the investigation, they have never been affiliated with any exporter or producer who exported wooden bedroom furniture to the United States during the POI, including those not individually examined during the investigation. As required by 19 CFR 351.214(b)(2)(iii)(B), each of the above-mentioned companies also certified that their export activities were not controlled by the central government of the PRC.

In addition to the certifications described above, the companies submitted documentation establishing the following: (1) The date on which they first shipped wooden bedroom furniture for export to the United States and the date on which the wooden bedroom furniture was first entered, or withdrawn from warehouse, for consumption; (2) the volume of their first shipment and the volume of subsequent shipments (if applicable); and (3) the date of their first sale to an unaffiliated customer in the United States.

The Department conducted Customs database queries to confirm that Kunyu's, Landmark's, Meikangchi's, and WBE's shipments of subject merchandise had entered the United States for consumption and had been suspended for antidumping duties.

Initiation of New Shipper Reviews

Pursuant to section 751(a)(2)(B) of the Act and 19 CFR 351.214(d)(1), we find that the requests submitted by Kunyu, Landmark, Meikangchi, and WBE meet the threshold requirements for initiation of a new shipper review for shipments of wooden bedroom furniture from the PRC produced and exported by these companies.

The POR is June 24, 2004, through June 30, 2005. See 19 CFR 351.214(g)(1)(i)(B). We intend to issue preliminary results of these reviews no later than 180 days from the date of initiation, and final results of these reviews no later than 270 days from the date of initiation. See section 751(a)(2)(B)(iv) of the Act.

Because Kunyu, Landmark, Meikangchi, and WBE have certified that they produced and exported the wooden bedroom furniture on which they based their respective requests for a new shipper review, we will instruct Customs and Border Protection to allow, at the option of the importer, the posting of a bond or security in lieu of a cash deposit for each entry of wooden bedroom furniture that was both produced and exported by these companies until the completion of the new shipper reviews, pursuant to section 751(a)(2)(B)(iii) of the Act.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: August 30, 2005.
Joseph A. Spetrini,
Acting Assistant Secretary for Import Administration.

[FR Doc. E5-4893 Filed 9-7-05; 8:45 am]

(BILLING CODE: 3510-DS-S)